DEPARTMENT OF HEALTH AND HUMAN SERVICES

Office of the Secretary

Notice of Meeting: Secretary's Advisory Committee on Genetics, Health, and Society

Pursuant to Public Law 92-463, notice is hereby given of the twenty-second meeting of the Secretary's Advisory Committee on Genetics, Health, and Society (SACGHS), U.S. Public Health Service. The meeting will be held from 8:30 a.m. to approximately 5:30 p.m. on Tuesday, June 15, 2010, and from 8 a.m. to approximately 2:45 p.m. on Wednesday, June 16, 2010, at the Washington Plaza Hotel, 10 Thomas Circle, NW., Washington, DC 20005. The meeting will be open to the public with attendance limited to space available. The meeting will also be Web cast.

The main agenda item will be an exploratory session on the implications of affordable whole-genome sequencing. The meeting will also include updates and discussions on other issues SACGHS has been addressing, including the work of the Secretary's Advisory Committee on Heritable Disorders in Newborns and Children related to the retention and use of dried blood spot specimens from newborn screening.

As always, the Committee welcomes hearing from anyone wishing to provide public comment on any issue related to genetics, health and society. Please note that because SACGHS operates under the provisions of the Federal Advisory Committee Act, all public comments will be made available to the public. Individuals who would like to provide public comment should notify the SACGHS Executive Secretary, Ms. Sarah Carr, by telephone at 301-496-9838 or e-mail at carrs@od.nih.gov. The SACGHS office is located at 6705 Rockledge Drive, Suite 750, Bethesda, MD 20892. Anyone planning to attend the meeting who needs special assistance, such as sign language interpretation or other reasonable accommodations, is also asked to contact the Executive Secretary.

Under authority of 42 U.S.C. 217a, Section 222 of the Public Health Service Act, as amended, the Department of Health and Human Services established SACGHS to serve as a public forum for deliberations on the broad range of human health and societal issues raised by the development and use of genetic and genomic technologies and, as warranted, to provide advice on these issues. The draft meeting agenda and other information about SACGHS, including information about access to the Web cast, will be available at the following Web site: http://oba.od.nih.gov/SACGHS/sacghs_meetings.html.

Dated: April 16, 2010.
Jennifer Spaeth,
Director, NIH Office of Federal Advisory Committee Policy.

[FR Doc. 2010-9453 Filed 4-22-10; 8:45 am]

BILLING CODE 4140-01-P